DEPARTMENT OF THE INTERIOR

National Park Service

Notice of Inventory Completion: U.S. Department of the Interior, National Park Service, Western Archeological and Conservation Center, Tucson, AZ

AGENCY: National Park Service, Interior.

ACTION: Notice.

Notice is here given in accordance with the Native American Graves Protection and Repatriation Act (NAGPRA), 25 U.S.C. 3003, of the completion of an inventory of human remains and associated funerary objects in the control of the U.S. Department of the Interior, National Park Service, Western Archeological and Conservation Center, Tucson, AZ. The human remains and cultural items were removed from various sites in Arizona.

This notice is published as part of the National Park Service's administrative responsibilities under NAGPRA, 25 U.S.C. 3003 (d)(3). The determinations in this notice are the sole responsibility of the Chief, Museum Collections Repository, Western Archeological and Conservation Center.

A detailed assessment of the human remains and associated funerary objects was made by Western Archeological and Conservation Center professional staff in consultation with representatives of the Gila River Indian Community of the Gila River Indian Reservation, Arizona; Hopi Tribe of Arizona; Salt River Pima-Maricopa Indian Community of the Salt River Reservation, Arizona; Tohono O'odham Nation of Arizona; and Zuni Tribe of the Zuni Reservation, New Mexico. Members of the Ak Chin Indian Community of the Maricopa (Ak Chin) Indian Reservation, Arizona were contacted, but did not attend the consultation meeting and were represented by members of the Gila River Indian Community of the Gila River Indian Reservation, Arizona.

In 1956, human remains representing a minimum of one individual were donated to the National Park Service by Dr. Cyril M. Cron. The cremated remains were found near Bylas in Graham County, AZ. No known individuals were identified. The two associated funerary objects are one Gila Red bowl and one Gila Red jar. The jar and bowl date the cremation to the Classic period of the Hohokam or Salado cultural tradition (A.D. 1200-1450).

In 1956, human remains representing a minimum of two individuals were donated to the National Park Service by Dr. Cyril M. Cron. The cremated remains were found near Phoenix in Maricopa County, AZ. No known individuals were identified. The two associated funerary objects are one Gila Red bowl and one Gila Red jar. The jar and bowl date the cremation to the Classic period of the Hohokam or Salado cultural tradition (A.D. 1200-1450).

In 1956, human remains and associated funerary objects from Tonto National Monument's Upper Ruin site in Gila County, AZ, were donated to the National Park Service by Cyril M. Cron. The human remains and associated funerary objects appear in Tonto National Monument's Notice of Inventory Completion published in the Federal Register on Wednesday, February 22, 2006 (FR Doc. E6-2477, pages 9152-9154).

In 1956, human remains representing a minimum of two individuals were removed from two separate sites in Gila County, AZ, during a legally authorized survey under the direction of National Park Service archeologist Raymond S. Brandes. The locations or descriptions of the sites were not included in the survey report. No known individuals were identified. No associated funerary objects are present. Based on diagnostic artifacts found at the sites the human remains are attributed to the Classic Period, Salado cultural tradition (A.D. 1200-1450).

In 1958, human remains representing a minimum of seven individuals were removed from the Gila Pueblo site in Gila County, AZ, during legally authorized excavations under the direction of National Park Service archeologist Joel Shiner. The Gila Pueblo site was acquired by the National Park Service in 1952 and remained under National Park Service control until 1972 when it was transferred to Eastern Arizona College. No known individuals were identified. The two associated funerary objects are one Classic Period Salado miniature bowl and one copper bell. Based on the funerary objects as well as artifacts found elsewhere on the site, the human remains are attributed to the Gila phase of the Classic Period, Salado cultural tradition (A.D. 1300-1450).

In 1968, human remains representing two individuals were removed from the Togetzoge site in Pinal County, AZ. No known individuals were identified. No associated funerary objects are present. Based on diagnostic artifacts from the site the human remains are attributed to the Classic Period, Salado cultural tradition (A.D. 1200-1450). The Togetzoge site is located on private property. Records do not indicate how the human remains came into the possession of the National Park Service.

In 1970, human remains representing a minimum of two individuals were removed from the Hagen site in Gila County, AZ, during legally authorized excavations under the direction of National Park Service archeologist Jon N. Young. No known individuals were identified. No associated funerary objects are present. Based on diagnostic artifacts recovered from the site the human remains are attributed to the Gila phase of the Classic Period, Salado cultural tradition (A.D. 1300-1450).

In 1990, cremated human remains representing a minimum of one individual were discovered in the collections storage area. No documentation has been located regarding the location or description of the site from which the human remains were removed. No known individuals were identified. The 159 associated funerary objects are 148 beads and 1 bag of beads, 9 bone rings, and 1 bird claw. Similarities between the human remains and associated funerary objects and other items in the collection indicate that, more likely than not, they were removed from a site in central Arizona and are related to the Hohokam or Salado cultural tradition.

The Hohokam were a sedentary agricultural people developing out of the local Archaic population. Hohokam settlement pattern was predominantly of the rancheria type, with pithouse or house-in-pit architecture. Ballcourts are often found at Hohokam sites. Pit or urn cremations were the predominant burial practice prior to A.D. 1100. Extended supine inhumations then became more prevalent, completely replacing cremations by A.D. 1300. There was a pronounced, though far from complete, decline in population after about A.D. 1350.

The “Salado cultural tradition” or “Salado phenomenon,” as defined by recent archeological research, is a term that has invoked archeological debate since the 1930s. For purposes of this notice, a primary geographic area of the Salado is located between the desert-dwelling Hohokam in southern Arizona and puebloan groups of the mountain areas to the north and east. However, evidence of Salado ceramic traditions have been discovered throughout the Southwest and as far south as Mexico. Salado sites often contain a variety of architectural styles and material culture that represent both the Hohokam and ancestral Puebloan traditions. For example, both architectural styles have been found within single sites in the Tonto Basin, suggesting close mixing between the two groups. Recent research suggests that the intermixing of these two groups may have occurred in the late 13th century to the middle part of the 15th century.

Overall, the archeological evidence, including material culture, architectural styles, and burial practices, indicates affiliation with a number of contemporary indigenous groups including the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico. In addition to the archeological evidence, oral traditions of these six tribes support ancestral ties to these cultural traditions.

In 1990, representatives of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona issued a joint policy statement claiming ancestral ties to the Hohokam and Salado cultural traditions. In 1994, representatives of the Hopi Tribe of Arizona issued a statement claiming cultural affiliation with Hohokam and Salado cultural traditions. In 1995, representatives of the Zuni Tribe of the Zuni Reservation, New Mexico issued a statement claiming cultural affiliation with the Hohokam and Salado cultural traditions.

Officials of the Western Archeological and Conservation Center have determined that, pursuant to 25 U.S.C. 3001 (9-10), the human remains described above represent the physical remains of 17 individuals of Native American ancestry. Officials of the Western Archeological and Conservation Center also have determined that, pursuant to 25 U.S.C. 3001 (3)(A), the 165 objects described above are reasonably believed to have been placed with or near individual human remains at the time of death or later as part of the death rite or ceremony. Lastly, officials of the Western Archeological and Conservation Center have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and associated funerary objects should contact Dr. Stephanie H. Rodeffer, Chief, Museum Collections Repository, Western Archeological and Conservation Center, 255 N. Commerce Park Loop, Tucson, AZ 85745, telephone (520) 670-6501, before May 26, 2006. Repatriation of the human remains and associated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

The Western Archeological and Conservation Center is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: March 14, 2006.

Sherry Hutt,

Manager, National NAGPRA Program.

[FR Doc. E6-6261 Filed 4-25-06; 8:45 am]

BILLING CODE 4312-50-S